SOCIAL SECURITY ADMINISTRATION

[Docket No: SSA-2025-0014]

Agency Information Collection Activities: New Emergency Request

The Social Security Administration (SSA) publishes a list of information collection packages requiring clearance by the Office of Management and Budget (OMB) in compliance with Public Law 104-13, the Paperwork Reduction Act of 1995, effective October 1, 1995. This notice includes a new, emergency information collection.

SSA is asking OMB for approval of this information collection nine days after the date of publication of this Federal Register Notice, independent of public comment, due to its emergency nature. However, we still welcome comment on the accuracy of the agency's burden estimate; the need for the information; its practical utility; ways to enhance its quality, utility, and clarity; and ways to minimize burden on respondents, including the use of automated collection techniques or other forms of information technology. We will consider any comments when we ultimately extend this information collection beyond the standard six-month emergency approval. Mail, email, or fax your comments and recommendations on the information collection(s) to the OMB Desk Officer and SSA Reports Clearance Officer at the following addresses or fax numbers.

(OMB) Office of Management and Budget, Attn: Desk Officer for SSA.

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0014] in your submitted response.

SSA is submitting the information collection below to OMB for clearance. If you wish to submit comments, we recommend you do so no later than May 9, 2025. However, please be aware that due to the emergency nature of this collection, SSA will be seeking OMB clearance in advance of this date. Individuals may obtain copies of this OMB clearance package by writing to OR.Reports.Clearance@ssa.gov.

mySocial Security—Security Authentication PIN—20 CFR 401.45—0960-NEW.

To mitigate fraud concerns, in April 2025, SSA will increase the level of identity proofing needed for customers to make payment method changes during phone interactions. While necessary to protect the public and the integrity of SSA's programs, this limits the accessibility of the phone as a service channel for claims filed over the phone that will require identity proofing, such as post-entitlement/post-eligibility direct deposit changes, and certain claims which SSA flags as anomalous. To bridge this gap, SSA developed a hybrid identity proofing process called the Security Authentication PIN (SAP) that will provide identity-proofing parity with our online modality, as well as in-person verification. Utilizing the SAP process will provide the necessary identity verification to allow payment method changes to these flagged claims and existing records via phone or in person, while ensuring fraud protection through verification of the identity of the individual prior to accessing or revising their account.

Background

Our current telephone process requires respondents to use knowledge-based questions to verify their identity matching SSA's records. Depending upon the situation, the requested information or action, and the judgement of potential misrepresentation of the caller, the SSA technician may ask additional approved questions to verify the customer's identity. While this process is sufficient fraud protection and authentication under current NIST specifications for access to non-sensitive information, it still poses a fraud risk for respondents who wish to complete tasks for which our automated telephone system, or internet platforms would request higher levels of identity proofing and authentication.

Description of New Emergency Information Collection Tool for the Security Authentication PIN (SAP)

SSA is implementing the new hybrid Security Authentication PIN (SAP) to digitally verify the identity of a telephone or in person customer when requesting changes to their account or record. This supports the agency's changes to its identity proofing policy for new initial claims taken over the phone or filed online and flagged as anomalous and for post-entitlement/post-eligibility actions for direct deposit enrollments, updates or cancellations.

To ease the burden on customers, SSA created a vanity URL that will navigate customers directly to the Security Settings page within their online mySocial Security account, allowing them to quickly and easily generate the SAP after accessing their account. This feature will reduce the burden on the customer to navigate within their online account to the Security Settings pages where they may generate the SAP. The code generates immediately once the customer selects the “Generate PIN” button.

For respondents who call for new initial claims taken over the phone or filed online and flagged as anomalous, as well as for post-entitlement/post-eligibility actions, or for direct deposit enrollments, updates or cancellations, the technician will first require the respondent to provide his or her Social Security Number (SSN). The technician will then look up the SSN to see if the caller has an associated mySocial Security account. If the technician finds an associated account in the system for that SSN, the technician will provide a direct vanity link to the caller which will require the caller to log into their mySocial Security account to generate a SAP through the provided link. The technician will then ask the respondent to verbally recount the SAP. If the SAP matches in the system, the technician will then continue with the call and help the respondent with completing the claim, updating bank information, or changing other pertinent payment method requests. If, however, the technician does not find an associated mySocial Security account in the system, the technician will instruct the customer to create an account and call back once they have completed that task. Once the caller has a mySocial Security account, they will be able to generate the SAP and continue with the call.

Need for Information Collection; Collection Methodology; How Information Will Be Used

To allow for continued security for respondent's personal information, and to ensure SSA is able to accurately verify the callers' identities prior to accessing any SSA number holders' sensitive information, we are implementing this hybrid SAP process for telephone access to the direct deposit services. In this way, we continue to offer maximum flexibility and options to the public while ensuring the security of the public's social security number and benefits payments. We expect this new identity proofing will be a powerful fraud prevention tool.

Alternatives to Completing the Information Collection

Members of the public who are unable or unwilling to utilize the SAP process will still have the option of visiting their local field office to verify their identity in person.

Need for Emergency Paperwork Reduction Act Approval

To allow for continued security for respondent's personal information, and to ensure SSA is able to accurately verify the callers' identities prior to accessing any SSA number holders' sensitive information, we are implementing this hybrid SAP process for telephone access to the direct deposit services. In this way, we continue to offer maximum flexibility and options to the public while ensuring the security of the public's social security number and benefits payments. We expect this new identity proofing will be a powerful fraud prevention tool. The respondents are individuals who wish to do business with SSA over the telephone or in person for the purposes of post-entitlement/post-eligibility actions for direct deposit enrollments, updates or cancellations, or to discuss flagged initial claims for all Title II non-disability benefits (Retirement, Survivors, Auxiliary Spouses, Lump Sum Death Payments (LSDP), and Children benefits applications).

Type of Request: New (emergency) information collection.

Modality of completion | Number of respondents | Frequency of response | Average burden per response (minutes) | Estimated total annual burden (hours) | Average theoretical hourly cost amount (dollars) * | Average combined wait time for teleservice center or field office (minutes) ** | Total annual opportunity cost (dollars) ***
Member of public requesting assistance via SAP Process | 3,874,000 | 1 | + 8 | 516,533 | * $32.66 | 22 | *** $63,262,420
+ Note: This figure does not include the knowledge-based questions; however, we will use this figure in place of the knowledge-based question figure currently listed under OMB No. 0960-0789 for telephone respondents.
* We based this figure on the average U.S. worker's hourly wages, as reported by Bureau of Labor Statistics data (Occupational Employment and Wage Statistics).
** We based this figure on the average FY 2025 combined wait times for teleservice centers and field offices, based on SSA's current management information data.
*** This figure does not represent actual costs that SSA is imposing on recipients of Social Security payments to complete this online tool; rather, these are theoretical opportunity costs for the additional time respondents will spend to complete the tool.

There is no actual charge to respondents to complete the online tool.

Dated: April 16, 2025.
Tasha Harley,
Acting Reports Clearance Officer, Social Security Administration.

[FR Doc. 2025-06773 Filed 4-16-25; 11:15 am]

BILLING CODE 4191-02-P